FEDERAL COMMUNICATIONS COMMISSION

Notice of Public Information Collection(s) being Submitted to OMB for Review and Approval

January 18, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 26, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0034.

Title: Application for Construction Permit for Reserved Channel Noncommercial Educational Broadcast Station.

Form Number: FCC 340.

Type of Review: Extension of a currently approved collection.

Respondents: Businesses or other for-profit entities.

Number of Respondents: 1,970.

Estimated Time per Response: 2.2 hours.

Frequency of Response: Recordkeeping; On occasion reporting requirements; Third party disclosure.

Total Annual Burden: 4,370 hours.

Total Annual Costs: $8,538,145.

Needs and Uses: FCC Form 340 is used to apply for authority to construct a new noncommercial educational (NCE) FM, TV, DTV broadcast station, or to make changes in the existing facilities of such a station. Form 340 is used for channels that are reserved exclusively for NCE use. 47 CFR 73.3580 requires third party notification—public notice in a newspaper of general circulation—when applications are filed for new facilities or major changes in existing facilities. In addition, all mutually exclusive NCE proposals for the reserved band currently on file with the FCC must supplement their applications with portions of the revised Form 340 to make a selection under the new point system. The FCC will issue a public notice announcing the procedures to be used in this process. These data help the FCC to determine whether an applicant meets basic statutory requirements to become or remain an FCC licensee and to ensure that the public interest will be served by grant of the application. When there are mutually exclusive, qualified applicants, this information will help to determine which proposal would best serve the public interest.

OMB Control Number: 3060-0955.

Title: 2 GHz Mobile Satellite Service Reports.

Form Number: N/A.

Type of Review: Extension of a currently approved collection.

Respondents: Businesses or other for-profit entities.

Number of Respondents: 9.

Estimated Time per Response: 3 hours.

Frequency of Response: Recordkeeping; On occasion reporting requirements.

Total Annual Burden: 27 hours.

Total Annual Costs: $14,000.

Needs and Uses: The 2 GHz mobile satellite service rules, 47 CFR part 25, require disclosure in the form of a narrative statement, through amendments to applications or letters of intent, or orbital debris mitigation design and operational strategies and a casualty risk assessment if planned post-mission disposal involves atmospheric re-entry of spacecraft. This requirement will permit the Commission and the public to comment on each system's design. 2 GHz mobile satellite systems receiving expansion spectrum as part of the rural and unserved areas spectrum incentive must provide a report on the actual number of subscriber minutes originating or terminating in unserved areas as a percentage of the actual U.S. system use. This rule will permit the Commission to verify that service is being provided in rural and unserved areas. In addition, system proponents will have to complete critical design review (CDR) within two years of authorization. CDR is a new milestone for satellite services and will permit the Commission to more closely monitor system construction. Without such information, the Commission could not determine whether satellite licensees are operating in conformance with the Commission's rules.

OMB Control Number: 3060-XXXX.

Title: Availability of INTELSAT Space Segment Capacity to Users and Providers Seeking to Access INTELSAT Directly.

Form Number: N/A.

Type of Review: New collection.

Respondents: Businesses or other for-profit entities.

Number of Respondents: 10.

Estimated Time per Response: 2 hours.

Frequency of Response: One-time-only filing requirement.

Total Annual Burden: 20 hours.

Total Annual Costs: $3,000.

Needs and Uses: On September 19, 2000, the FCC released a Report and Order (R&O), IB Docket No. 00-91, FCC 00-340, pursuant to the recently enacted Open-Market Reorganization for the Betterment of International Telecommunications Act (ORBIT Act). Section 641(b) of the Communications Satellite Act of 1962, as amended by the ORBIT Act, requires the FCC to determine whether “sufficient opportunity” exists for users and service providers “to access INTELSAT space segment capacity directly from INTELSAT to meet their service and capacity requirements.” The R&O concluded that users and service providers currently do not have sufficient opportunity for direct access to INTELSAT. The R&O also concluded that FCC should adopt a “commercial solution.” This requires the parties—Comsat (which controls the most U.S. accessible capacity) and other direct access users, to attempt to negotiate mutually agreeable arrangements and to file reports with the Commission on or before March 13, 2001 on the progress of their negotiations.

Federal Communications Commission.
Magalie Roman Salas,
Secretary.

[FR Doc. 01-2374 Filed 1-25-01; 8:45 am]

BILLING CODE 6712-01-U